DEPARTMENT OF TRANSPORTATION

Federal Aviation Administration

14 CFR Part 121

Flight Crewmember Flight Time Limitations and Rest Requirements; Correction

AGENCY: Federal Aviation Administration, DOT.

ACTION: Notice of enforcement policy; correction.

SUMMARY: On May 17, 2001, at 66 FR 27548, the Federal Aviation Adminstration (FAA) announced to the public the Federal Aviation Administration's (FAA's) intent to rigorously enforce its existing regulations governing flight crewmember rest requirements that are presently codified at 14 CFR 121.471. This document corrects the title of the person who signed the document and inserts the date for the comprehensive review of certificate holders' flight scheduling practices.

EFFECTIVE DATE: This correction is effective on May 17, 2001.

FOR FURTHER INFORMATION CONTACT: Alberta Brown, telephone (202) 267-8166.

Correction

In the Federal Register of May 17, 2001, at 66 FR 27548, in FR Doc. 01-12419, make the following corrections:

1. On page 27549, in column 2, in paragraph 3, under “Compliance and Enforcement Plan,” in lines 9 and 10, correct [insert date (6 months from publication date)]”, to read “November 1, 2001”.

2. On page 27549, in column 3, in the signature block, correct the title of the person who signed the document to read “Acting Associate Administrator for Regulation and Certification.”

Issued in Washington, DC on May 17, 2001.
Donald P. Byrne,
Assistant Chief Counsel, Regulations Division.

[FR Doc. 01-12932 Filed 5-22-01; 8:45 am]

BILLING CODE 4913-13-M